DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Access to Recovery (ATR) Program Cross-Site Evaluation—New

SAMHSA's Center for Substance Abuse Treatment (CSAT) is conducting a cross-site evaluation of the Access to Recovery (ATR) program. CSAT's ATR program is a competitive, discretionary grant awarded to 18 States, the District of Columbia, and five Tribal Organizations to develop and operate a voucher-based substance abuse treatment financing system. The primary focus of the ATR program is to improve access by utilizing treatment payment vouchers, to expand independent client choice of treatment providers, to expand access to both clinical treatment and recovery support services (RSS), and to increase substance abuse treatment capacity by increasing the array of faith-based and community organizations through which clinical treatment and RSS can be offered. The purpose of the cross-site evaluation is to examine how grantees implement the ATR program and the program's impact on existing treatment systems and client outcomes and to inform future policy on the development and implementation of substance abuse treatment voucher systems.

Two surveys will be administered as part of this evaluation. One survey will be administered to a sample of clients participating in the ATR program and a second survey will be administered to service organizations participating in a grantee's ATR program. The client survey will be administered following the 6-month post-intake Government Performance and Results Act (GPRA) follow-up (OMB No. 0930-0208), using the same data collection methods as the GPRA data collection to reduce client burden. GPRA data collection methods vary by ATR grantee; typically, grantees collect GPRA data in-person, but in special cases they may use a telephone interview. The ATR client survey includes questions on client choice, ease of obtaining services through an ATR program, and client satisfaction. The provider survey will be administered through a Web survey instrument and will target a key informant in the organization to complete the survey. Providers unable to access or complete the Web survey will be provided with a paper version of the survey. The provider survey includes questions on organizational characteristics, satisfaction with the ATR program, and experience participating in the ATR program.

Total Burden Hours for the Cross-Site Client and Provider Survey
Instrument/activity | Number of respondents | Number of responses per respondent | Average burden per response | Total burden hours per collection
Client Survey | 7,329 | 1 | 0.15 | 1,100
Provider Survey (80% response rate) | 4,083 | 1 | 0.50 | 2,042
Total | 11,412 |  |  | 3,142

Send comments to Summer King, SAMHSA Reports Clearance Officer, Room 7-1045, 1 Choke Cherry Road, Rockville, MD 20857. Written comments should be received within 60 days of this notice.

Dated: July 16, 2008.
Elaine Parry,
Acting Director, Office of Program Services.

[FR Doc. E8-16726 Filed 7-21-08; 8:45 am]

BILLING CODE 4162-20-P